DEPARTMENT OF AGRICULTURE

Rural Utilities Service

East Kentucky Power Cooperative; Notice of Availability of an Environmental Assessment

AGENCY: Rural Utilities Service, USDA.

ACTION: Notice of availability of an environmental assessment.

SUMMARY: Notice is hereby given that the Rural Utilities Service (RUS) is issuing an Environmental Assessment with respect to the potential environmental impacts related to the construction and operation of an 80 megawatt combustion turbine by East Kentucky Power Cooperative. RUS may provide financing assistance for the project.

FOR FURTHER INFORMATION CONTACT: Bob Quigel, Environmental Protection Specialist, RUS, Engineering and Environmental Staff, Stop 1571, 1400 Independence Avenue, SW., Washington, DC 20250-1571, telephone: (202) 720-0468. Bob's e-mail address is bquigel@rus.usda.gov. Information is also available from Jeff Hohman, Manager of Natural Resources, East Kentucky Power Cooperative, P.O. Box 707, Winchester, Kentucky 40392-0707, telephone (800) 238-3443.

SUPPLEMENTARY INFORMATION: The project consists of the construction and operation of 80 megawatt, simple cycle, combustion turbine at East Kentucky Power Cooperative's J.K. Smith Combustion Turbine Site. The J.K. Smith Combustion Turbine Site is located in Clark County, Kentucky, approximately 9 miles southeast of Winchester, Kentucky, on Kentucky Highway 89. There are currently three 80 megawatt, simple cycle, combustion turbines located at the site. A fourth unit will soon be under construction. This project will be the fifth combustion turbine to be constructed and operated at the site. There are adequate natural gas transmission facilities at the site to power this additional unit. A 12-mile, 138 kV electric transmission line will need to be constructed as part of the project to feed the electric power generated by the Unit 5 to East Kentucky Power Cooperative's existing transmission grid.

East Kentucky Power Cooperative prepared an environmental report which describes the project further and discusses the environmental impacts of the proposed project. RUS has conducted an independent evaluation of the environmental report and believes that it accurately assesses the impacts of the proposed project. No adverse impacts are expected with the construction of the project. RUS has accepted the document as its Environmental Assessment and is making it available for public review.

The Environmental Assessment can be reviewed at the Clark County Public Library, 370 South Burns Avenue, Winchester, Kentucky, telephone (606) 744-5661, the headquarters of East Kentucky Power Cooperative, 4775 Lexington Road, Winchester, Kentucky, or the headquarters of RUS, at the address provided above.

Questions and comments should be sent to RUS at the address provided. RUS will accept questions and comments on the environmental assessment for at least 30 days from the date of publication of this notice.

Any final action by RUS related to the proposed project will be subject to, and contingent upon, compliance with all relevant Federal environmental laws and regulations and completion of environmental review procedures as prescribed by the Council on Environmental Quality Regulations and RUS Environmental Policies and Procedures (7 CFR part 1794).

Dated: December 14, 2000.
Lawrence R. Wolfe,
Acting Director, Engineering and Environmental Staff.

[FR Doc. 00-32493 Filed 12-20-00; 8:45 am]

BILLING CODE 3410-15-P